DEPARTMENT OF AGRICULTURE

Forest Service

Lynn Canal-Icy Strait Resource Advisory Committee

AGENCY: Forest Service, USDA.

ACTION: Notice of meeting.

SUMMARY: The Lynn Canal-Icy Strait Resource Advisory Committee (LC-IS RAC) will meet in Juneau, AK. The committee is authorized under the Secure Rural Schools and Community Self-Determination Act (Pub. L. 112-141) (the Act) and operates in compliance with the Federal Advisory Committee Act. The purpose of the committee is to improve collaborative relationships and to provide advice and recommendations to the Forest Service concerning projects and funding consistent with the Title II of the Act. The meeting is open to the public. The purpose of the meeting is to review and recommend project proposals that will meet the purposes of improving or maintaining existing infrastructure (roads & trails), implementing stewardship objectives that enhance forested ecosystems, and/or restoring and improving land health and water quality on National Forest System lands.

DATES: The meeting will be held September 20, 2012, 9 a.m.

ADDRESSES: The meeting will be held in the upper conference room, Admirality National Monument Office, 8510 Mendenhall Loop Road, Juneau, AK 99801. The public may attend the meeting via Video Teleconference (VTC) at the Hoonah Ranger District office, 430A Airport Road, Hoonah, AK 99829. Written comments may be submitted as described under Supplementary Information. All comments, including names and addresses when provided, are placed in the record and are available for public inspection and copying. The public may inspect comments received at the Admirality National Monument Office, 8510 Mendenhall Loop Road, Juneau, AK 99801. Please call ahead to (907) 586-8800 to facilitate entry into the building to view comments.

FOR FURTHER INFORMATION CONTACT: Shane King, RAC Coordinator, 8510 Mendenhall Loop Road, Juneau, AK 99801; (907) 789-6286; email shaneking@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted: review and status updates on Title II projects, review the status of funds to be allocated, discuss acquisition management instruments for implementation of projects, review monitoring report, review and approve administrative costs, provide opportunity for proponents to present proposals (5 minutes each), provide LC-IS RAC members an opportunity to ask questions about proposals (3 minutes each), review the proposal recommendation process, review and rank project proposals by Category Groups, provide recommendations for funding to the Designated Federal Official and provide for public comment. Further information can be found at http://goo.gl/tnSEV. Anyone who would like to bring related matters to the attention of the committee may file written statements with the committee staff before the meeting. The agenda will include time for people to make oral statements of three minutes or less. Individuals wishing to make an oral statement should request in writing by September 19, 2012 to be scheduled on the agenda. Written comments and requests for time for oral comments must be sent to Shane King, RAC Coordinator, 8510 Mendenhall Loop Road, Juneau, AK 99801, or by email to shaneking@fs.fed.us, or via facsimile to (907) 586-8808. A summary of the meeting will be posted at http://goo.gl/tnSEV within 21 days of the meeting.

Meeting Accommodations: If you require sign language interpreting, assistive listening devices or other reasonable accommodation please request this in advance of the meeting by contacting the person listed in the section titled For Further Information Contact. All reasonable accommodation requests are managed on a case by case basis.

Dated: August 17, 2012.
Chad VanOrmer,
Monument Ranger.

[FR Doc. 2012-22011 Filed 9-7-12; 8:45 am]

BILLING CODE 3410-11-M